DEPARTMENT OF AGRICULTURE

Animal and Plant Health Inspection Service

[Docket No. APHIS-2017-0088]

Notice of Request for Revision to and Extension of Approval of an Information Collection; Self-Certification Medical Statement

ACTION: Revision to and extension of approval of an information collection; comment request.

SUMMARY: In accordance with the Paperwork Reduction Act of 1995, this notice announces the Animal and Plant Health Inspection Service's intention to request a revision to and extension of approval of an information collection associated with the regulations permitting applicants to self-certify certain medical statements when applying for positions with the Federal Government.

DATES: We will consider all comments that we receive on or before January 22, 2018.

ADDRESSES: You may submit comments by either of the following methods:

• Federal eRulemaking Portal: Go to http://www.regulations.gov/#!docketDetail;D=APHIS-2017-0088.

• Postal Mail/Commercial Delivery: Send your comment to Docket No. APHIS-2017-0088, Regulatory Analysis and Development, PPD, APHIS, Station 3A-03.8, 4700 River Road, Unit 118, Riverdale, MD 20737-1238.

Supporting documents and any comments we receive on this docket may be viewed at http://www.regulations.gov/#!docketDetail;D=APHIS-2017-0088 or in our reading room, which is located in Room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For information on the regulations related to the use of the Self-Certification Medical Statement, contact Ms. Beverly Cassidy, Human Resources Policy Specialist, Human Resources Division, APHIS, 4700 River Road, Unit 40, Riverdale, MD 20737-1236; (301) 851-2918. For copies of more detailed information on the information collection, contact Ms. Kimberly Hardy, APHIS' Information Collection Coordinator, at (301) 851-2483.

SUPPLEMENTARY INFORMATION:

Title: Self-Certification Medical Statement.

OMB Control Number: 0579-0196.

Type of Request: Revision to and extension of approval of an information collection.

Abstract: The U.S. Department of Agriculture's Marketing and Regulatory Programs (MRP) facilitates the domestic and international marketing of U.S. agricultural products and protects the health of domestic animal and plant resources. Resource management and administrative services, including human resources management, for MRP agencies are provided by the MRP Business Services unit of the Animal and Plant Health Inspection Service.

MRP agencies are authorized by the regulations in 5 CFR 339 and 29 CFR 1630 to obtain medical information from applicants for positions that have approved medical standards due to duties that are arduous, hazardous, or require a certain level of health status or fitness. These agencies have positions with duties that extend beyond sedentary and require specific medical standards and/or physical requirements to be performed successfully and safely. The medical qualifications standards for appointment to the covered positions listed in the MRP Medical Examination Requirements Charts are justified on the basis that the duties are arduous or hazardous, require a certain level of health status and fitness, and the nature of the positions involves a high degree of responsibility towards the public.

MRP uses the Self-Certification Medical Statement and documentation provided by applicants to evaluate and verify an applicant's abilities to perform the duties of the job. The inability to collect this information would adversely affect MRP's ability to make employment decisions and determinations regarding an applicant's physical fitness to safely and efficiently perform assigned duties.

We are asking the Office of Management and Budget (OMB) to approve our use of these information collection activities, as described, for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 0.167 hours per response.

Respondents: Members of the public applying for positions with MRP.

Estimated annual number of respondents: 606.

Estimated annual number of responses per respondent: 1.

Estimated annual number of responses: 607.

Estimated total annual burden on respondents: 102 hours. (Due to averaging, the total annual burden hours may not equal the product of the annual number of responses multiplied by the reporting burden per response.)

All responses to this notice will be summarized and included in the request for OMB approval. All comments will also become a matter of public record.

Done in Washington, DC, this 15th day of November 2017.
Kevin Shea,
Administrator, Animal and Plant Health Inspection Service.

[FR Doc. 2017-25205 Filed 11-20-17; 8:45 am]

BILLING CODE 3410-34-P